DEPARTMENT OF DEFENSE

Department of the Navy

Notice of Availability of Government-Owned Inventions; Available for Licensing

AGENCY: Department of the Navy, DOD.

ACTION: Notice.

SUMMARY: The inventions listed below are assigned to the U.S. Government as represented by the Secretary of the Navy and are available for licensing by the Department of the Navy.

U.S. Patent No. 6,745,715: STERN FLAP CORRECTIVE MOTION AND FUEL SAVING CONTROL SYSTEM FOR MARINE VESSELS.//U.S. Patent No. 6,746,005: CONSTANT NATURAL FREQUENCY PASSIVE-ACTIVE MOUNT.//U.S. Patent No. 6,751,161: FLUIDBORNE SOUND PROJECTOR WITH SWEEP CLEANING FACILITIES.//U.S. Patent No. 6,752,921: BIOREACTOR TANK INTERNALLY CHAMBERED TO SEQUENTIALLY PERFORM BIOLOGICAL TREATMENT AND MEMBRANE FILTRATION.//U.S. Patent No. 6,765,487: UNDERWATER DETECTION AND DETERRENT SYSTEM.//U.S. Patent No. 6,773,851: SYNTHESIS OF LI2MN409 USING LITHIUM PERMANGANATE PRECURSOR.//U.S. Patent No. 6,779,476: LOW SOLAR ABSORBING NONSKID COMPOSITION AND APPLIED CONFIGURATION FOR A FLIGHT DECK.//U.S. Patent No. 6,798,632: POWER FREQUENCY ELECTROMAGNETIC FIELD COMPENSATION SYSTEM.//U.S. Patent No. 6,799,126: NONDESTRUCTIVE METHOD FOR DETECTING STRUCTUAL ANOMALIES IN COMPOSITES.//U.S. Patent No. 6,799,396: WATERTIGHT DOOR CLOSURE.//U.S. Patent No. 6,802,962: DECK DRAIN COVER PLATE ASSEMBLY.//U.S. Patent No. 6,805,067: CONTOUR STERN FLAP.//U.S. Patent No. 6,810,365: MONITORING WASTE LIQUID TO DETERMINE MEMBRANE CLEANSING PERFORMANCE.//U.S. Patent No. 6,847,153: POLYURETHANE ELECTROSTRICTION.//U.S. Patent No. 6,854,279: DYNAMIC DESICCATION COOLING SYSTEM FOR SHIPS.//U.S. Patent No. 6,864,858: RADAR REFLECTING RESCUE DEVICE.//U.S. Patent No. 6,879,256: SEAL COMPRESSION INDICATION SYSTEM.

ADDRESSES: Requests for copies of the patents cited should be directed to: Naval Surface Warfare Center Carderock Division, Code 0117, 9500 MacArthur Blvd, West Bethesda, MD 20817-5700, and must include the patent number.

FOR FURTHER INFORMATION CONTACT: Joseph Teter Ph.D., Director, Technology Transfer Office, Naval Surface Warfare Center Carderock Division, Code 0117, 9500 MacArthur Blvd, West Bethesda, MD 20817-5700, telephone 301-227-4299.

Authority: 35 U.S.C. 207, 37 CFR part 404.

Dated: May 3, 2005.
I.C. Le Moyne Jr.,
Lieutenant, Judge Advocate General's Corps, U.S. Navy, Alternate Federal Register Liaison Officer.

[FR Doc. 05-9277 Filed 5-9-05; 8:45 am]

BILLING CODE 3810-FF-P